DEPARTMENT OF HEALTH AND HUMAN SERVICES

Agency for Toxic Substances and Disease Registry

[Docket No. ATSDR-2015-0004]

Availability of Draft Toxicological Profile: Perfluoroalkyls

AGENCY: Agency for Toxic Substances and Disease Registry (ATSDR), Department of Health and Human Services (HHS).

ACTION: Notice of availability; request for comments.

SUMMARY: The Agency for Toxic Substances and Disease Registry (ATSDR), within the Department of Health and Human Services (HHS) announces the availability of the Draft Toxicological Profile for Perfluoroalkyls for review and comment. All toxicological profiles issued as “Drafts for Public Comment” represent ATSDR's best efforts to provide important toxicological information on priority hazardous substances. ATSDR is seeking public comments and additional information, reports, and studies about the health effects of these substances. Although ATSDR considers key studies for this substance during the profile development process, this document solicits any relevant, additional studies. ATSDR will evaluate the quality and relevance of such data or studies for possible inclusion into the profile. ATSDR remains committed to providing a comment period for this document as a means to best serve public health.

DATES: Comments must be submitted by July 23, 2018.

ADDRESSES: You may submit comments, identified by docket number ATSDR-2015-0004, by any of the following methods:

• Internet: Access the Federal eRulemaking Portal at www.regulations.gov. Follow the instructions for submitting comments.

• Mail: Division of Toxicology and Human Health Sciences, Agency for Toxic Substances and Disease Registry, 1600 Clifton Rd. NE, MS F-57, Atlanta, GA 30329. Attn: Docket No. ATSDR-2015-0004.

Instructions: All submissions must include the agency name and docket number for this notice. All relevant comments will be posted without change. This means that no confidential business information or other confidential information should be submitted in response to this notice.

FOR FURTHER INFORMATION CONTACT: Susan Ingber, Division of Toxicology and Human Health Sciences, Agency for Toxic Substances and Disease Registry, 1600 Clifton Rd. NE, MS F-57, Atlanta, GA 30329, Email: wng7@cdc.gov; Phone: 770-488-0605.

SUPPLEMENTARY INFORMATION: The Superfund Amendments and Reauthorization Act of 1986 (SARA) [42 U.S.C. 9601 et seq.] amended the Comprehensive Environmental Response, Compensation, and Liability Act of 1980 (CERCLA or Superfund) [42 U.S.C. 9601 et seq.] by establishing certain requirements for ATSDR and the U.S. Environmental Protection Agency (EPA) regarding hazardous substances that are most commonly found at facilities on the CERCLA National Priorities List (NPL). Among these statutory requirements is a mandate for the Administrator of ATSDR to prepare toxicological profiles for each substance included on the priority list of hazardous substances [also called the Substance Priority List (SPL)]. This list identifies 275 hazardous substances that ATSDR and EPA have determined pose the most significant potential threat to human health. The SPL is available online at www.atsdr.cdc.gov/spl.

In addition, CERCLA provides ATSDR with the authority to prepare toxicological profiles for substances not found on the SPL. CERCLA authorizes ATSDR to establish and maintain inventory of literature, research, and studies on the health effects of toxic substances (CERCLA section 104(i)(1)(B)); to respond to requests for health consultations (CERCLA section 104(i)(4)); and to support the site-specific response actions conducted by the agency.

There have been two previous Public Comment periods for the Perfluoroalkyls toxicological profile, one in 2009 (74 FR 36492) and 2015 (80 FR 53157). Due to the public comments received to both notices, as well as new literature, we have revised the previous draft profile (including a revised Minimal Risk Level); therefore, ATSDR is releasing a revised draft profile for public comment.

Availability

The Draft Toxicological Profiles are available online at http://www.atsdr.cdc.gov/ToxProfiles and at www.regulations.gov, Docket No. ATSDR-2015-0004.

Pamela I. Protzel Berman,
Director, Office of Policy, Partnerships and Planning Agency for Toxic Substances and Disease Registry.

[FR Doc. 2018-13385 Filed 6-20-18; 8:45 am]

BILLING CODE 4163-70-P